DEPARTMENT OF DEFENSE

Department of the Army

Availability for Non-Exclusive, Exclusive, or Partially Exclusive Licensing of U.S. Patent Application Concerning Method for Purifying Cholera Toxin

AGENCY: Department of the Army, DoD.

ACTION: Notice.

SUMMARY: In accordance with 37 CFR 404.6 and 404.7, announcement is made of the availability for licensing of U.S. Patent No. 6,008,329 entitled “Method for Purifying Cholera Toxin” filed March 6, 1998. Foreign rights are also available (PCT/US99/05005). The United States Government as represented by the Secretary of the Army has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: This invention relates to a method of purifying cholera toxin using a matrix with at least one ion chosen from among matrix with Ni+2, Co+2, Cd² or Zn+2 immobilized thereon. It is possible thereby to selectively elute the B subunit for cholera toxin from the matrix.

Luz D. Ortiz,
Army Federal Register Liaison Officer.

[FR Doc. 02-11071 Filed 5-2-02; 8:45 am]

BILLING CODE 3710-08-M